DEPARTMENT OF TRANSPORTATION

Coast Guard

33 CFR Part 117

[CGD08-01-014]

Drawbridge Operating Regulation; Green River, Spottsville, Kentucky

AGENCY: Coast Guard, DOT.

ACTION: Notice of temporary deviation from drawbridge regulations.

SUMMARY: The Commander, Eighth Coast Guard District has authorized a temporary deviation from the regulation governing the Louisville & Nashville Railroad Drawbridge, Mile 8.3, Green River at Spottsville, Kentucky. This deviation allows the drawbridge to remain closed to navigation for 12 days from 7 a.m., August 13, 2001, until 5 p.m., August 24, 2001. This action is required to allow the bridge owner time for repair work that is essential to the continued safe operation of the drawbridge.

DATES: This temporary deviation is effective from 7 a.m., August 13, 2001, until 5 p.m., August 24, 2001.

FOR FURTHER INFORMATION CONTACT: Roger K. Wiebusch, Bridge Administrator, Commander (obr), Eighth Coast Guard District, 1222 Spruce Street, St. Louis, MO 63103-2832, (314) 539-3900, extension 378.

SUPPLEMENTARY INFORMATION: The Louisville & Nashville Drawbridge provides a vertical clearance of 46.4 feet above normal pool in the closed-to-navigation position. Navigation on the waterway consists primarily of commercial tows and recreation watercraft. During normal river stages most vessels are able to pass beneath the closed span. In order to repair the bent shaft and install new lift rails the bridge must be kept inoperative and in the closed-to-navigation position. This deviation has been coordinated with waterway users who do not object.

This deviation allows the bridge to remain closed to navigation from 7 a.m., August 13, 2001, to 5 p.m., August 24, 2001. The drawbridge normally opens on signal.

Dated: June 28, 2001.
Roy J. Casto,
RADM, USCG, Commander, 8th CG District.

[FR Doc. 01-17378 Filed 7-10-01; 8:45 am]

BILLING CODE 4910-15-M